ENVIRONMENTAL PROTECTION AGENCY

[EPA-HQ-OPP-2006-0606; FRL-8105-8]

Acid Copper Chromate (ACC); Product Cancellation Order to Delete ACC Uses in Certain Pesticide Registrations

AGENCY: Environmental Protection Agency (EPA).

ACTION: Notice.

SUMMARY: This notice announces EPA's order terminating all residential uses of the acid copper chromate (ACC) registration held by OSMOSE, Inc. The affected registration is EPA Reg. No. 3008-60. OSMOSE voluntarily requested the use termination, pursuant to section 6(f)(1) of the Federal Insecticide, Fungicide, and Rodenticide Act (FIFRA), as amended. OSMOSE requested that it not be provided with any existing stocks provisions for the product. The Agency announced receipt of this request in a July 18, 2006 Federal Register Notice of Receipt of Request (71 FR 40717) (FRL-8080-5). In the July 18, 2006 Notice, EPA stated that it would accept the request and issue an order implementing the use termination, unless the Agency received substantive comments within the 30-day comment period that would merit its further review of the request, or unless the registrant withdrew the request within this period, which closed August 17, 2006. The Agency received one comment on the notice which was carefully considered by the Agency; it was determined that the request did not merit further review. Further, the registrant did not withdraw its request. Accordingly, on October 17, 2006 EPA approved the request. EPA hereby issues through this notice an order implementing the approved use terminations. Any distribution, sale, or use of the ACC product subject to this cancellation order is permitted only in accordance with the terms of this order.

DATES: The cancellations are effective December 14, 2006.

FOR FURTHER INFORMATION CONTACT: Adam Heyward, Antimicrobials Division (7510P), Office of Pesticide Programs, Environmental Protection Agency, 1200 Pennsylvania Ave., NW., Washington, DC 20460-0001; telephone number: (703) 308-6422; fax number: (703) 308-8481; e-mail address: heyward.adam@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0606. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

This notice announces the Agency's order implementing EPA's approval of OSMOSE's request to terminate all residential uses of its ACC product registration. The affected registration is identified in Table 1.

Table 1.-ACC-Affected Product Registration
EPA registration no. | Product name
3008-60 | AC 50% Wood Preservative

Table 2 of this unit includes the name and address of record for the registrant of the product in Table 1 of this unit.

Table 2.—Registrant of Affected ACC Product Registration
EPA company no. | Company name and address
Osmose, Inc. | 980 Ellicott Street Buffalo, NY 14209-2398

III. Summary of Public Comments Received and Agency Response to Comments

Only one public comment was received, which is posted on the docket. This comment addressed the commenter's concerns about the ACC registration in general. The Agency does not believe that the comment submitted during the comment period merits further review of OSMOSE's request nor a denial of the request for use termination.

IV. Cancellation Order

Pursuant to FIFRA section 6(f), EPA approved the use termination for the affected ACC registration identified in Table 1 of Unit II. on October 17, 2006. The Agency hereby orders that the ACC product registration identified in Table 1 of Unit II. is amended to terminate the affected uses. Any distribution, sale, or use of existing stocks of the products identified in Table 1 of Unit II. in a manner inconsistent with any of the Provisions for Disposition of Existing Stocks set forth below in Unit VI will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The order issued in this notice implementing the use terminations includes no existing stocks provisions.

List of Subjects

Environmental protection, Pesticides and pests, Acid Copper Chromate, ACC.

Dated: December 7, 2006.
Dennis H. Edwards,
Acting Director, Antimicrobials Division, Office of Pesticide Programs.

[FR Doc. E6-21400 Filed 12-13-06; 8:45 am]

BILLING CODE 6560-50-S